DEPARTMENT OF HEALTH AND HUMAN SERVICES

Request for Public Comment; Public Meetings in Calendar Years 2005 and 2006; Economic Impact of Federal Health Care Regulations

AGENCY: Department of Health and Human Services, Office of the Assistant Secretary for Planning and Evaluation.

ACTION: Notice.

SUMMARY: This notice announces the dates and locations of the Department of Health and Human Services, Office of the Assistant Secretary for Planning and Evaluation (ASPE) Town Hall meetings to be held in calendar years 2005 and 2006 to solicit public comment on quantifying the economic impact of major Federal regulations governing the health care industry. These public meetings provide a forum for interested parties to make oral presentations and/or to submit written comments about the impact of regulations. In particular, commenters are requested to provide an estimate of the economic impact of Federal health care regulations, guidance documents, or paperwork requirements, and also to describe the methods used to calculate the economic impact of the regulations. The Town Hall meetings will be held in several cities across the country to provide an opportunity for input. In addition, individuals may also submit written comments for consideration regardless of their ability to attend the Town Hall meetings.

DATES: Meeting Dates: The first Town Hall meeting was held on November 3, 2005, in Washington, DC. The remaining meetings will be held on December 8, 2005 in Chicago, Illinois; January 12, 2006 in Oklahoma City, Oklahoma; and February 2, 2006 in San Francisco, California. Information about the Town Hall meetings and registration procedures are available on the Web site http://aspe.hhs.gov/arrb/index.shtml.

Each meeting day will begin at 10 a.m. and end at 3 p.m. (in the respective cities' time zones). On-site registration and sign-up for public comments will open one hour before each meeting. Participants are encouraged to pre-register for the meetings (see below for registration information).

ADDRESSES: The December 8, 2005 Town Hall meeting will be held at: Millennium Knickerbocker Hotel Chicago, 163 East Walton Place @ North Michigan Avenue, Chicago, IL 60611. Telephone: 312-751-8100. Fax: 312-751-9205.

The January 12, 2006 Town Hall meeting will be held at: The Sheraton Oklahoma City, One North Broadway, Oklahoma City, OK 73102. Telephone: 405-235-2780. Fax: 405-232-4782.

The February 2, 2006 Town Hall meeting will be held at: Hilton San Francisco Fisherman's Wharf, 2620 Jones Street, San Francisco, CA 94133. Telephone: 415-885-4700. Fax: 415-771-8945.

FOR FURTHER INFORMATION CONTACT: Marty McGeein, Office of the Assistant Secretary for Planning and Evaluation, 200 Independence Avenue, SW., Washington, DC 20201. Telephone: (202) 690-6443.

Web site: Additional details regarding the Town Hall meeting process for public comments on the economic impact of Federal health care regulations, along with information on how to register and guidelines for an effective presentation and/or electronic comment submission, can be found on the project Web site at: http://aspe.hhs.gov/arrb/index.shtml.

SUPPLEMENTARY INFORMATION:

I. Background

House Appropriations Committee Report 108-636 includes a provision for the Health and Human Services Assistant Secretary for Planning and Evaluation (HHS/ASPE) and the Office of Management and Budget (OMB) to establish an interagency committee, to be coordinated by HHS. The committee's role is to examine major Federal regulations governing the health care industry and to make suggestions regarding how health care regulation could be coordinated and simplified to reduce costs and burdens and improve translation of biomedical research into medical practice, while continuing to protect patients. The interagency committee will examine the economic impact of the major Federal regulations governing the health care industry, and will explore both immediate steps and longer-term proposals for reducing regulatory burden, while maintaining the highest quality health care and other patient protections.

In accord with the House Appropriations Committee's intent, ASPE and OMB have undertaken several complementary activities. The HHS/OMB interagency committee is conducting a comprehensive review of Federal health care regulations, guidance, and paperwork requirements in order to identify areas for reform. In order to facilitate the work of this committee, ASPE and OMB are soliciting public nominations of regulatory reforms in several ways. First, we published a notice in the Federal Register on October 4, 2005, soliciting public nominations of reforms. Second, we are holding a series of Town Hall meetings in several cities across the country to provide an opportunity for input from health care administrators, institutional providers, physicians, practitioners, patients, and others about the impact of regulations, and to identify other potential areas for reform.

The purpose of this Federal Register notice is to give potential participants in these Town Hall meetings more information regarding how their participation and the information they provide can facilitate the consideration of their suggestions for regulatory reform. In particular, participants in the Town Hall meetings and individuals who submit written comments are requested to provide, to the extent feasible, an estimate of the economic impact of health care regulations, guidance documents, or paperwork requirements, and also to describe the methods used to calculate the economic impact of the regulations. The findings from the Town Hall meetings, other reform nominations and comments from the public, and the subsequent work of the HHS/OMB committee will be synthesized and included in a report to Congress.

II. Registration

Registration Procedures: Registration can be completed online at http://aspe.hhs.gov/arrb/index.shtml. To register by telephone, contact Bridgette Saunders of Social and Scientific Systems at (301) 628-3158. (Social and Scientific Systems is the Contractor to HHS/ASPE to provide logistical support for the Town Hall meetings.) The following information must be provided when registering: Name, organization name and address, and consent to publish contact information on a participants list and other reports to document the Town Hall Meeting. A Social & Scientific Systems, Inc. staff member will confirm your registration by mail, e-mail, or fax.

III. Presentations and Comment Format

A. “5-Minute” Public Comment Presentations

Meeting attendees can sign up at the meeting, on a first-come, first-served basis, to make 5-minute presentations. We ask that commenters focus on the economic impacts of health care regulations, and quantify these impacts to the extent possible. Depending on the number of persons who sign up to make public comments, we will decide whether additional time will be allotted. In order to offer the same opportunity to all attendees, there is no pre-registration for 5-minute speakers. Attendees can sign up only on the day of the meeting to make a 5-minute presentation. They must provide their name, title, and organization name on the sign-up sheet, and identify the general area of health care regulation that they will address.

B. Written Comments From Meeting Attendees

Written comments are welcome from the public regardless of attendance at a Town Hall Meeting or whether they make an oral presentation at a Town Hall Meeting. Written comments can be submitted either at the meeting, or before or after the meeting via e-mail to the mailboxes specified on the project Web site: http://aspe.hhs.gov/arrb/index.shtml or via regular mail to Marty McGeein, Office of the Assistant Secretary for Planning and Evaluation, 200 Independence Avenue, SW., Washington, DC 20201. Please note that electronic submissions are preferred due to delays in receiving U.S. Postal Mail. We are able to consider only those comments received in writing and/or via e-mail by 5 p.m. EST on February 9, 2006.

IV. Special Accommodations

Individuals attending a meeting who are hearing- or visually-impaired and have special requirements, or a condition that requires special assistance or accommodations, must provide this information when registering for the meeting and accommodations will be made.

Dated: November 29, 2005.
Donald Young,
Acting Assistant Secretary for Planning and Evaluation (ASPE), HHS.
John D. Graham,
Administrator, Office of Information and Regulatory Affairs (OIRA), OMB.

[FR Doc. 05-23582 Filed 12-1-05; 8:45 am]

BILLING CODE 4150-05-P